DEPARTMENT OF COMMERCE

International Trade Administration

[A-570-898]

Chlorinated Isocyanurates From the People's Republic of China: Notice of Extension of Time Limit for the Final Results of the 2008-2009 Antidumping Duty Administrative Review

AGENCY: Import Administration, International Trade Administration, Department of Commerce.

DATES: Effective Date: September 17, 2010.

FOR FURTHER INFORMATION CONTACT: Brandon Petelin or Charles Riggle, AD/CVD Operations, Office 8, Import Administration, International Trade Administration, U.S. Department of Commerce, 14th Street and Constitution Avenue, NW., Washington, DC 20230; telephone: (202) 482-8173 or (202) 482-0650, respectively.

SUPPLEMENTARY INFORMATION:

Background

On May 14, 2010, the Department of Commerce (“Department”) published its preliminary results of review of the antidumping order on chlorinated isocyanurates from the People's Republic of China (“PRC”).¹ This review covers the period June 1, 2008, through May 31, 2009. The final results of review are currently due no later than September 11, 2010.

¹ See Chlorinated Isocyanurates from the People's Republic of China: Preliminary Results and Partial Rescission of Antidumping Duty Administrative Review, 75 FR 27302 (May 14, 2010) (“Preliminary Results ”).

Extension of Time Limit for Final Results of Review

Pursuant to section 751(a)(3)(A) of the Tariff Act of 1930, as amended (“the Act”), the Department shall issue the final results of an administrative review within 120 days after the date on which the preliminary results are published. However, if it is not practicable to complete the review within this time period, section 751(a)(3)(A) of the Act allows the Department to extend the time period to a maximum of 180 days. Completion of the final results of this review within the 120-day period is not practicable because the Department needs additional time to analyze and address complicated surrogate value issues, including the most appropriate methodology for valuing labor, for the final results. Because it is not practicable to complete this review within the time specified under the Act, we are extending the time period for issuing the final results of the administrative review by 30 days in accordance with section 751(a)(3)(A) of the Act. Therefore, the final results will be due Monday, October 11, 2010, which is 150 days from publication of the preliminary results. However, October 11, 2010, falls on a federal holiday, and it is the Department's long-standing practice to issue a determination on the next business day when the statutory deadline falls on a federal holiday.² Accordingly, the deadline for completion of the preliminary results of the review is now no later than October 12, 2010.

² See Notice of Clarification: Application of “Next Business Day” Rule for Administrative Determination Deadlines Pursuant to the Tariff Act of 1930, As Amended, 70 FR 24533 (May 10, 2005).

This notice is published in accordance with sections 751(a)(3)(A) and 777(i) of the Act.

Dated: September 10, 2010.
Susan H. Kuhbach,
Acting Deputy Assistant Secretary for Antidumping and Countervailing Duty Operations.

[FR Doc. 2010-23345 Filed 9-16-10; 8:45 am]

BILLING CODE 3510-DS-P